DEPARTMENT OF HEALTH AND HUMAN SERVICES

Administration for Children and Families

Proposed Information Collection Activity; Intergovernmental Reference Guide (IRG) (Office of Management and Budget No.: 0970-0209)

AGENCY: Office of Child Support Services, Administration for Children and Families, U.S. Department of Health and Human Services.

ACTION: Request for public comments.

SUMMARY: The Administration for Children and Families (ACF), Office of Child Support Services (OCSS), is requesting the Office of Management and Budget (OMB) to approve the Intergovernmental Reference Guide (IRG), for an additional three years. The IRG contains State and Tribal child support information that helps child support agencies (CSAs) administer their respective programs. Minor updates are proposed, as described below. The current OMB approval (OMB #: 0970-0209) expires on February 28, 2025.

DATES: Comments due September 9, 2024. In compliance with the requirements of the Paperwork Reduction Act of 1995, the ACF is soliciting public comment on the specific aspects of the information collection described above.

ADDRESSES: You can obtain copies of the proposed collection of information and submit comments by emailing infocollection@acf.hhs.gov. Identify all requests by the title of the information collection.

SUPPLEMENTARY INFORMATION:

Description: The IRG is a centralized and automated repository of State and Tribal profiles that contains high-level descriptions of each CSA program. These profiles provide State, Tribal, and foreign country CSAs with an effective and efficient method for updating and accessing information needed to process intergovernmental child support cases.

Revisions are proposed as a result of feedback from respondents suggesting changes, recommendations from the program team, or from the program team workgroup of interested partners. The workgroup is engaged to evaluate the efficacy of the instruments. Specifically, the following changes are proposed:

• Minor edits to change Office of Child Support Enforcement (OCSE) to Office of Child Support Services (OCSS).

• Edits to the State profile based on recommendations that were received but not implemented in 2022 when the current version of the profile went through the OMB approval process. OCSS has an overview of those recommendations and OCSS responses available upon request.

• Edits to clarify the State profile questions to make it easier for respondents to understand and complete them. Some of these edits were based on the comments referenced in the prior bullet and others based on other feedback from program staff and workgroup members.

• Addition of questions in the State profile instrument that are designed to help States establish health care coverage and manage the financial aspects of child support services. The new questions pertain to policies and procedures associated with new hire reporting, income withholdings, lump sum payments, medical support, and State electronic funds transfers. The addition of these questions slightly increased the estimated time per response from .3 hours to .5 hours.

Respondents: State and Tribal CSAs.

Annual Burden Estimates
Information collection instrument | Total number of annual respondents | Number of annual responses per respondent | Average annual burden hour per response | Annual burden hours
IRG: State Profile Guide (states and territories) | 54 | 18 | 0.5 | 486
IRG: Tribal Profile Guide | 62 | 18 | 0.3 | 335

Estimated Total Annual Burden Hours: 821.

Comments: The Department specifically requests comments on: (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 652(a)(7); 42 U.S.C. 666(f); 45 CFR 301.1; 45 CFR 303.7, and 45 CFR 309.120.

Mary C. Jones,
ACF/OPRE Certifying Officer.

[FR Doc. 2024-15277 Filed 7-10-24; 8:45 am]

BILLING CODE 4184-41-P